DEPARTMENT OF AGRICULTURE

Office of the Secretary

Meeting Notice of the Agricultural Research Service—Animal Handling and Welfare Review Panel

AGENCY: Research, Education, and Economics, USDA.

ACTION: Notice of public meeting.

SUMMARY: In accordance with section 1409(e) of the National Agricultural Research, Extension, and Teaching Policy Act of 1977 (7 U.S.C. 3124a(e)), Federal-State Partnership and Coordination, the United States Department of Agriculture (USDA) announces an open meeting of the Agricultural Research Service—Animal Handling and Welfare Review Panel (ARS-AHWR) to discuss the report and recommendations on the Phase II review of the agency-wide research animal care and well-being policies, procedures, and standards for agricultural livestock in ARS research.

DATES: The ARS-AHWR will meet virtually on Tuesday, July 14, 2015, at 1:00 p.m. Eastern Daylight Time.

ADDRESSES: The meeting will take place virtually at the AT&T Meeting Room below. Please follow the pre-registration instructions to ensure your participation in the meeting.

Call-In instructions for Tuesday, July 14, 2015 at 1:00 p.m. Eastern Daylight Time

Web Preregistration: Participants may preregister for this teleconference at http://emsp.intellor.com?p=420376&do=register&t=8. Once the participant registers, a confirmation page will display dial-in numbers and a unique PIN, and the participant will also receive an email confirmation of this information.

You may submit written comments to: REE Advisory Board Office, Jamie L. Whitten Building, Room 332A, 1400 Independence Avenue SW., Washington, DC 20250, or via email at ahwrpanel@usda.gov.

FOR FURTHER INFORMATION CONTACT: Michele Esch, Executive Director, REE Advisory Board Office, U.S. Department of Agriculture; telephone: (202) 720-3684; fax: (202) 720-6199; or email: ahwrpanel@usda.gov.

SUPPLEMENTARY INFORMATION: On Tuesday, July 14, 2015, at 1:00 p.m. Eastern Daylight Time a virtual meeting will be conducted for any interested stakeholders and/or interested parties to hear the summary of findings and recommendations of the Phase II review of the agency-wide research animal care and well-being policies, procedures, and standards for agricultural livestock in ARS research. The Review Panel plans to hear stakeholder input received from this meeting as well as other written comments. The report will be available at www.ree.usda.gov on July 6, 2015.

This meeting is open to the public and any interested individuals wishing to attend.

Opportunity for verbal public comment will be offered on the day of the meeting. Written comments by attendees or other interested stakeholders will be welcomed for the public record before and up to the day of the meeting (by close of business on Tuesday, July 14, 2015). All statements will become a part of the official record of the REE Mission Area and will be kept on file for public review in the REE Advisory Board Office.

Done at Washington, DC, this 23 day of June 2015.
Ann Bartuska,
Deputy Under Secretary, Research, Education, and Economics.

[FR Doc. 2015-15895 Filed 6-26-15; 8:45 am]

BILLING CODE 3410-03-P